DEPARTMENT OF AGRICULTURE

Forest Service

DEPARTMENT OF THE INTERIOR

Bureau of Land Management

Notice of Intent To Prepare an Environmental Impact Statement

AGENCY: Forest Service, Santa Fe National Forest, USDA, and Bureau of Land Management, Taos Field Office, Interior.

ACTION: Notice of intent to prepare an environmental impact statement.

SUMMARY: The USDA Forest Service (FS) and USDI Bureau of Land Management (BLM) will prepare an environmental impact statement (EIS) on a proposal that if authorized would permit the construction and operation of the Buckman Water Diversion Project on public lands managed by the FS and BLM, Santa Fe County, New Mexico. The City of Santa Fe (City), Santa Fe County (County), and Las Campanas Limited Partnership (Las Campanas) have each submitted Special Use Applications (SUP) requesting the use of these lands for this water diversion project.

The facilities necessary to implement this project include an intake structure on the eastern bank of the Rio Grande; sediment settling ponds (or an equivalent technical means of removing sand before pumping the water away from the river); pumps and pipes to move the water approximately 15 miles to the vicinity of its use, and two water treatment plants (one located on private land and one located on land leased by the City from the BLM), where the raw water will be treated to safe drinking water standards.

Estimated water diversion quantities used for the analysis will be based on annual demand projections that extend to the year 2010 for the City and County, while the demand for Las Campanas is projected for a longer period (e.g. to community build out). These projections translate to approximately 8,750 acre feet per year (AFY), currently estimated to be 5,230 AFY for the City; 1,700 AFY for the County; and 1,800 AFY for Las Campanas. The proposed diversion facility is sized for a combined net peak diversion of approximately 28.2 cubic feet per second (cfs).

The agencies invite written comments and suggestions on the scope of the analysis. The agencies also hereby give notice of the environmental analysis and decision-making process that will occur on the proposal so interested and affected people are aware of how they may participate and contribute to the final decision.

DATES: Comments concerning the scope of the proposed project must be received no later than September 5, 2002. Refer to Supplemental Information regarding public disclosure of submitted comment information.

ADDRESSES: Send written comments to Mr. Sandy Hurlocker, NEPA Coordinator, USDA-FS, Española Ranger District, P.O. Box 3307, Española, New Mexico, 87533. Electronic mail (e-mail) may be sent to shurlocker@fs.fed.us and FAX may be sent to (505) 753-9411.

FOR FURTHER INFORMATION CONTACT: Sandy Hurlocker, NEPA Coordinator, Española Ranger District, (505) 753-7331.

SUPPLEMENTARY INFORMATION: Continuing water shortages in the City of Santa Fe and the surrounding area have resulted in a critical and immediate need for developing a sustainable means of accessing water supplies. The Buckman Well Field is being used to access existing water rights. However, the well field cannot provide a reliable source of water due to declining well yields, significant drops in ground water levels near the well field, and potential limitations to pumping due to depletions of nearby streams. Even at current levels undesirable consequences to ground water levels and nearby streams are expected to occur unless an alternate supply is found for the near term.

The project applicants (City of Santa Fe, Santa Fe County, and Las Campanas Limited Partnership) have proposed the Buckman Water Diversion Project to meet the immediate need for a sustainable means of accessing water supplies that make more direct use of the Applicants' water rights by diverting San Juan-Chama Project water and native Rio Grande water while reducing impacts to the aquifer.

Proposed Action: The Applicants propose to construct and operate a surface water diversion facility at the Rio Grande near the western terminus of Buckman Road located within the Santa Fe National Forest, near the existing Buckman water management area (also known as the Buckman Well Field). The water will be pumped to the Santa Fe vicinity, where it will serve municipal and community water supply customers.

The Buckman Water Diversion Project will involve diversion of San Juan-Chama water, which is released from storage in upstream reservoirs, and native Rio Grande water. The Buckman diversion is proposed to be constructed with the capacity necessary to meet the near-term need for water, based on various physical, technical, and environmental limitations. This proposed project has an independent utility from the long-term water management strategy being undertaken by the City and the County.

At this point in the analysis, the only alternative to the proposed action identified is the no action alternative.

The USDA Forest Service (FS) and USDI Bureau of Land Management (BLM) are co-lead agencies. The USDI Bureau of Reclamation (Reclamation), the City of Santa Fe (City), and Santa Fe County (County) have been granted cooperating agency status in accordance with 40 CFR 1501.6. Reclamation is participating as a cooperating agency because it may contribute federal funds to the project.

The responsible Officials are the Forest Supervisor, Santa Fe National Forest 1474 Rodeo Road, P.O. Box 1689, Santa Fe, NM, 87504-1689, and the Taos Area Manager for the Taos Field office of the BLM, 226 Cruz Alta Taos, NM 87571.

The NEPA decision to be made by FS and BLM officials is whether or not to authorize the construction and operations/maintenance of the Buckman water diversion project facilities on FS and BLM managed lands as proposed by the applicants, or an alternative to the proposed facilities.

The scoping process will include public meetings, field reviews and interaction with various Federal and State agencies. Public scoping meetings will be announced in area media, as well as posted on Forest Service and BLM Internet sites. Meetings are expected to occur between June and August of 2002 as part of the initial scoping for the project. Additional public meetings will be held once the Draft EIS is available for review.

Preliminary issues include the following:

• Impacts (both beneficial and adverse) to water resources.

• Impacts of construction to existing infrastructure (roads, powerlines, buried utilities)

• Impacts to fish and aquatic habitats

• Impacts to recreation use, including river guides, as well as the scenic resources associated with the area.

• Impacts of traffic. This includes short-term increases caused by construction traffic as well as longer-term increases in traffic resulting from proposed road improvements.

In addition to evaluating these preliminary issues, the environmental evaluation will assess the potential effects that the proposed project may have on Indian trust assets, as well as assessing the potential effects that the proposed project may have on minority and low-income populations. Economic impacts of the proposed action as well as no action will be considered, as will other social considerations.

In addition to the permits issued by the Forest Service and BLM, the following permits may be necessary for implementation of the project:

• US Army Corps of Engineers—Section 404 Permit (including Section 10 Navigable Waters, Section 401 Water Quality Certification, etc.). Includes both in-river construction and construction and construction in designated arroyos (e.g., pipeline crossings). Coordination with FEMA may be required to cover changes to 100-year flood levels or for construction of facilities in 100-year floodplain.

• US Environmental Protection Agency, Region VI—National Pollution Discharge Elimination System (NPDES) Permit for settled sand return line from sedimentation pond to Rio Grande.

The following permits may be required by the State of New Mexico:

• Office of the State Engineer—Application for approval of a permit to Divert Surface Water and for a Point of Diversion for San Juan-Chama Water (City and County), and a permit to Change of Place and Purpose and Use and Point of Diversion for native Rio Grande water (County and Las Campanas).

• Environment Department—Certification of federal NPDES discharge permit.

• Environment Department—Construction storm water NPDES permits for construction of diversion and near-river facilities, pipelines, booster stations, water treatment plants, and treated water distribution piping.

• Environment Department—Review of plans & specifications for compliance with Safe Drinking Water Act and related rules.

• Land Use Office—Right-of-way permit for facilities on State Lands.

• Office of Cultural Affairs, Historic Preservation Division—Section 106 Historic Preservation Permit (requirements typically covered via EIS NHPA review).

The following permits may be required by the County and City:

• Santa Fe County—Land Development Permit; Building Permit (near-river facilities and booster station facilities); Floodplain Development Permit.

• City of Sant Fe—Wastewater Discharge Permit for reject water or any other discharges from the Water Treatment Facility to the City sanitary sewer system; Approved Development Plan; Building Permit, Grading Permit, and Utilities Permit; Noise Permit (only if any construction work in the City is to be performed outside the hours of 6 am to 8 pm); Temporary (construction) and permanent easements or rights-of-way for land ownerships other than those already listed (e.g., railroads).

Actual permits required will depend upon the selected alternative.

Comment Requested

This notice of intent initiates the scoping process that guides the development of the environmental impact statement. The lead agencies invite written comments and suggestions on the proposed action, including any issues to consider, as well as any concerns relevant to the analysis. In order to be most useful, scoping comments should be received within 45 days of publication of this Notice of Intent.

Comments received in response to this notice, including names and addresses of those who comment, will be considered part of the public record on this Proposed Action and will be available for public inspection. If you wish to withhold your name or street address from public review or from disclosure under the Freedom of Information Act (FOIA), you must state this prominently at the beginning of your written comment. Such requests will be honored to the extent allowed by law, but persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days. All submissions from organizations and business, and from individuals identifying themselves as representatives or officials of organizations or businesses, will be available for public inspection in their entirety.

Comments submitted anonymously will be accepted and considered; however, those who submit anonymous comments will not have standing to appeal the subsequent decision under 36 CFR part 215.

A draft environmental impact statement will be prepared for comment. The comment period on the draft environmental impact statement will be 60 days from the date the Environmental Protection Agency publishes the notice of availability in the Federal Register.

At this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978).

Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 60-day comment period so that substantive comments and objections are made available to the Forest Service at a time when it can meaningfully consider them and respond to them in the final environmental impact statement.

To assist the lead agencies in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The draft environmental impact statement is expected in June of 2003 and the final environmental impact statement is expected in November of 2003.

(Authority: 40 CFR 1501.7 and 1508.22; Forest Service Handbook 1909.15, Section 21)

Dated: May 24, 2002.
Leonard Atencio,
Santa Fe Forest Supervisor.
Ron Huntsinger,
Taos Field Manager.

[FR Doc. 02-18337 Filed 7-19-02; 8:45 am]

BILLING CODE 3410-11-M